DEPARTMENT OF DEFENSE

Office of the Secretary

[Transmittal No. 24-107]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-107 and Policy Justification.

Dated: January 9, 2026.
Stephanie J. Bost,
Alternate OSD Federal Register Liaison Officer, Department of Defense.

BILLING CODE 6001-FR-P

BILLING CODE 6001-FR-C

Transmittal No. 24-107

Notice of Proposed Issuance of Letter of Offer Pursuant to Section 36(b)(1) of the Arms Export Control Act, as amended

(i) Prospective Purchaser: Government of Czech Republic

(ii) Total Estimated Value:

Major Defense Equipment * | $ 0
Other | $184 million
Total | $184 million

Funding Source: National Funds

(iii) Description and Quantity or Quantities of Articles or Services under Consideration for Purchase:

Major Defense Equipment (MDE):

None

Non-Major Defense Equipment:

The following non-MDE items will also be included: communications equipment; spare parts, consumables and accessories, and repair and return support; personnel training and training equipment; United States (U.S.) Government and contractor engineering, technical, and logistics support services; and other related elements of logistics and program support.

(iv) Military Department: Air Force (EZ-D-DAJ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 5, 2024

* as defined in Section 47(6) of the Arms Export Control Act

POLICY JUSTIFICATION

Czech Republic—Large Enterprise Terminals System

The Government of the Czech Republic has requested to buy a two-sector fixed satellite communications turnkey system, based on a Large Enterprise Terminals (LET) system, consisting of the following non-MDE items: communications equipment; spare parts, consumables and accessories, and repair and return support; personnel training and training equipment; U.S. Government and contractor engineering, technical and logistics support services; and other related elements of logistics and program support. The estimated total cost is $184 million.

This proposed sale will support the foreign policy goals and national security objectives of the U.S. by improving the security of a NATO Ally that is a force for political stability and economic progress in Europe.

The proposed sale will improve the Czech Republic's capability to strengthen its homeland defense and deter regional threats. This will contribute to its military goals of updating capability while further enhancing interoperability with the U.S. and other allies. The Czech Republic will have no difficulty absorbing these articles and services into its armed forces.

The proposed sale of this equipment and support will not alter the basic military balance in the region.

The communications equipment will be transferred from U.S. Government stock. There are no known offset agreements proposed in connection with this potential sale.

Implementation of this proposed sale will not require the assignment of any additional U.S. Government or contractor representatives to the Czech Republic.

There will be no adverse impact on U.S. defense readiness as a result of this proposed sale.

[FR Doc. 2026-00527 Filed 1-13-26; 8:45 am]

BILLING CODE 6001-FR-P